FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011426-057.

Title: West Coast of South America Discussion Agreement.

Parties: CMA CGM S.A.; Compania Chilena de Navigacion Interoceanica, S.A; Frontier Liner Services, Inc.; Hamburg-Süd; Hapag-Lloyd AG and Norasia Container Lines Limited (acting as a single party); King Ocean Services Limited, Inc.; Mediterranean Shipping Company, SA; Seaboard Marine Ltd.; and Trinity Shipping Line.

Filing Party: Wayne R. Rohde, Esq.; Cozen O'Conner; 1627 I Street NW., Suite 1100; Washington, DC 20006-4007.

Synopsis: The amendment deletes Compania Sudamericana de Vapores, S. A. as a party to the agreement.

Agreement No.: 012328.

Title: CSCL/CMA CGM/UASC/HSD Vessel Sharing Agreement.

Parties: China Shipping Container Lines Co. Ltd. and China Shipping Container Lines (Hong Kong) Co., Ltd. (collectively known as China Shipping); United Arab Shipping Company S.A.G.; CMA CGM S.A.; and Hamburg Sud.

Filing Party: Brett M. Esber, Esquire; Blank Rome LLP; 600 New Hampshire Avenue NW.; Washington, DC 20037.

Synopsis: The agreement authorizes the parties to share vessels on a new weekly service in the trade between China and Panama, on the one hand, and the East Coast of the U.S. on the other hand.

Agreement No.: 201175-005.

Title: Port of NY/NJ Sustainable Services Agreement.

Parties: APM Terminals Elizabeth, LLC; GCT Bayonne LP; GCT New York LP; Maher Terminals LLC; and Port Newark Container Terminal LLC.

Filing Party: Carol N. Lambos, Esq.; The Lambos Firm, LLP; 303 South Broadway, Suite 410; Tarrytown, NY 10591.

Synopsis: The amendment changes the name of APM Terminals North America, Inc. to APM Terminals Elizabeth, LLC.

Agreement No.: 201210-002.

Title: Port of NY/NJ Port Authority/Marine Terminal Operators Agreement.

Parties: APM Terminals Elizabeth, LLC; GCT Bayonne LP; GCT New York LP; Maher Terminals LLC; and Port Newark Container Terminal LLC.

Filing Party: Carol N. Lambos, Esq.; The Lambos Firm, LLP; 303 South Broadway Suite 410; Tarrytown, NY 10591.

Synopsis: The amendment changes the name of APM Terminals North America, Inc. to APM Terminals Elizabeth, LLC.

By Order of the Federal Maritime Commission.
Dated: April 24, 2015.
Rachel E. Dickon,
Assistant Secretary.

[FR Doc. 2015-10011 Filed 4-28-15; 8:45 am]

BILLING CODE 6730-AA-P